INTERNATIONAL TRADE COMMISSION

[Investigations Nos. 731-TA-825-826 (Final)]

Certain Polyester Staple Fiber From Korea and Taiwan

Determinations

On the basis of the record ¹ developed in the subject investigations, the United States International Trade Commission determines, pursuant to section 735(b) of the Tariff Act of 1930 (19 U.S.C. 1673d(b)) (the Act), that an industry in the United States is materially injured by reason of imports from Korea and Taiwan of certain subject polyester staple fiber, other than low-melt fiber, provided for in subheading 5503.20.00 of the Harmonized Tariff Schedule of the United States, that has been found by the Department of Commerce to be sold in the United States at less than fair value (LTFV).²

¹ The record is defined in sec. 207.2(f) of the Commission's Rules of Practice and Procedure (19 CFR § 207.2(f)).

² Chairman Bragg found one domestic like product and therefore made an affirmative determination with respect to all certain polyester staple fiber, provided for in subheading 5503.20.00 of the Harmonized Tariff Schedule of the United States.

The Commission further determines, pursuant to section 735(b) of the Act, that an industry in the United States is not materially injured or threatened with material injury, and the establishment of an industry in the United States is not materially retarded, by reason of imports from Korea and Taiwan of low-melt polyester staple fiber, provided for in subheading 5503.20.00 of the Harmonized Tariff Schedule of the United States, that have been found by the Department of Commerce to be sold in the United States at LTFV.³

³ Chairman Bragg found one domestic like product and therefore made an affirmative determination with respect to all certain polyester staple fiber, provided for in subheading 5503.20.00 of the Harmonized Tariff Schedule of the United States.

Background

The Commission instituted these investigations effective April 2, 1999, following receipt of a petition filed with the Commission and the Department of Commerce by E.I. DuPont de Nemours, Wilmington, DE; Arteva Specialities S.a.r.l. d/b/a KoSa, Spartanburg, SC; Nan Ya Plastics Corp., America, Lake City, SC; Wellman, Inc., Shrewsbury, NJ; and Intercontinental Polymers, Inc., Charlotte, NC on April 2, 1999.⁴ The final phase of the investigations was scheduled by the Commission following notification of a preliminary determination by the Department of Commerce that imports of certain polyester staple fiber from Korea and Taiwan were being sold at LTFV within the meaning of section 733(b) of the Act (19 U.S.C. 1673b(b)). Notice of the scheduling of the Commission's investigations and of a public hearing to be held in connection therewith was given by posting copies of the notice in the Office of the Secretary, U.S. International Trade Commission, Washington, DC, and by publishing the notice in the Federal Register of November 24, 1999 (64 FR 66198). The hearing was held in Washington, DC on March 28, 2000, and all persons who requested the opportunity were permitted to appear in person or by counsel.

⁴ Nan Ya Plastics Corp. is no longer a petitioner in these investigations. DuPont is not a petitioner in the investigation on Taiwan.

The Commission transmitted its determination in this investigation to the Secretary of Commerce on May 15, 2000. The views of the Commission are contained in USITC Publication 3300 (May 2000), entitled Certain Polyester Staple Fiber from Korea and Taiwan: Investigations Nos. 731-TA-825-826 (Final).

Issued: May 17, 2000.
By order of the Commission.
Donna R. Koehnke,
Secretary.

[FR Doc. 00-13076 Filed 5-23-00; 8:45 am]

BILLING CODE 7020-02-P